DEPARTMENT OF TRANSPORTATION

Federal Aviation Administration

14 CFR Part 39

[Docket No. FAA-2005-20452; Directorate Identifier 2004-NM-206-AD; Amendment 39-14522; AD 2006-06-13]

RIN 2120-AA64

Airworthiness Directives; Airbus Model A330-200 and -300 Series Airplanes; and Model A340-200 and -300 Series Airplanes

AGENCY: Federal Aviation Administration (FAA), Department of Transportation (DOT).

ACTION: Final rule.

SUMMARY: The FAA is adopting a new airworthiness directive (AD) for certain Airbus Model A330-200 and A330-300 series airplanes; and Model A340-200 and -300 series airplanes. This AD requires repetitive detailed inspections for discrepancies of the inboard and outboard actuator fittings of the aileron servo controls, corrective actions if necessary, and eventual replacement of all the attachment bolts of the aileron servo controls. This AD results from several cases of bushing migration on the inboard and outboard actuator fittings of the aileron servo controls; in one case the bushing had migrated completely out of the actuator fitting and the fitting was cracked. We are issuing this AD to prevent rupture of the inboard and outboard actuator fittings of the aileron servo controls, which could result in airframe vibration and consequent reduced structural integrity of the airplane.

DATES: This AD becomes effective May 1, 2006.

The Director of the Federal Register approved the incorporation by reference of certain publications listed in the AD as of May 1, 2006.

ADDRESSES: You may examine the AD docket on the Internet at http://dms.dot.gov or in person at the Docket Management Facility, U.S. Department of Transportation, 400 Seventh Street SW., Nassif Building, Room PL-401, Washington, DC.

Contact Airbus, 1 Rond Point Maurice Bellonte, 31707 Blagnac Cedex, France, for service information identified in this AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A330 and A340-200 and -300 series airplanes. That NPRM was published in the Federal Register on February 28, 2005 (70 FR 9555). That NPRM proposed to require repetitive detailed inspections for discrepancies of the inboard and outboard actuator fittings of the aileron servo controls, corrective actions if necessary, and eventual replacement of all the attachment bolts of the aileron servo controls.

Comments

We provided the public the opportunity to participate in the development of this AD. We have considered the comments received.

Request for Optional Inspection

Air France states that an optional inspection (for the three repetitive inspections referenced in the French airworthiness directives) for bolt replacement at the first inspection with paint marking, and further inspection after 1,800 flight hours, but no later than 18 months, is not shown in the NPRM. Air France adds that airplanes with Airbus Modification 45512 installed in production, and without Airbus Modification 50600 installed, need only do the bolt replacement. Air France notes that the inspections and bolt replacement are for airplanes on which servo controls ECP8/9 have been installed in service by Airbus Service Bulletin A340-27-4081 or A340-27-4062 for Model A340-200 and -300 series airplanes; and Airbus Service Bulletin A330-27-3075 or A330-27-3054 for Model A330-200 and -300 series airplanes.

We agree with Air France. We have added the affected airplane models to paragraphs (h) and (j)(1) and (j)(2) (changed to paragraphs (k)(1) and (k)(2) in this final rule) of this AD to distinguish between the requirements for airplanes with Airbus Modification 45512 installed in production, and those without the modification installed. We have also added a new paragraph (i) to provide for the optional inspection. Additionally, we have changed paragraphs (h) and (j) to include terminating action for the repetitive inspections if all the small-head attachment bolts are replaced.

Request To Correct Typographical Error/Clarify Certain Information

Airbus states that a typographical error was made in the service bulletin numbers referenced in Table 1 of the NPRM for Airbus Service Bulletins A330-57-3075 and A340-57-4083. The references in the NPRM specify Airbus Service Bulletins A330-27-3075 and A340-27-4083. We agree that a typographical error was made and we have corrected the service bulletin numbers accordingly.

Airbus also states that Table 1 lists the service bulletins without any link or reference to the rest of the AD. Airbus asks for clarification of each service bulletin to specify if it relates to the inspection paragraph or the replacement paragraph. We agree with Airbus. For clarification, we have added paragraph numbers to each service bulletin reference in Table 1, and cross-referenced those numbers in paragraphs (h), (j), and (k) of this AD.

Explanation of Change to Applicability

We have revised the applicability of this AD to identify model designations as published in the most recent type certificate data sheet for the affected models.

Clarification of AMOC Paragraph

We have revised paragraph (l) of this AD to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

This AD will affect about 20 airplanes of U.S. registry.

The inspection will take about 16 work hours per airplane (2 hours per fitting), at an average labor rate of $65 per work hour. Based on these figures, the estimated cost of the inspection is $20,800, or $1,040 per airplane, per inspection cycle.

The replacement will take about 12 work hours per airplane, at an average labor rate of $65 per work hour. Required parts will be free of charge. Based on these figures, the estimated cost of the replacement is $15,600, or $780 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-06-13 Airbus: Amendment 39-14522. Docket No. FAA-2005-20452; Directorate Identifier 2004-NM-206-AD.

Effective Date

(a) This AD becomes effective May 1, 2006.

Affected ADs

(b) None.

Applicability

(c) This AD applies to Airbus Model A330-201, -202, -203, -223, and -243 airplanes; Model A330-301, -321, -322, -323, -341, -342, and -343 airplanes; Model A340-211, -212, and -213 airplanes; and Model A340-311, -312, and -313 airplanes; certificated in any category; except those on which Airbus Modification 50660 has been accomplished.

Unsafe Condition

(d) This AD was prompted by several cases of bushing migration on the inboard and outboard actuator fittings of the aileron servo controls; in one case the bushing had migrated completely out of the actuator fitting and the fitting was cracked. We are issuing this AD to prevent rupture of the inboard and outboard actuator fittings of the aileron servo controls, which could result in airframe vibration and consequent reduced structural integrity of the airplane.

Compliance

(e) You are responsible for having the actions required by this AD performed within the compliance times specified, unless the actions have already been done.

Service Bulletin References

(f) Except as provided by paragraph (g) of this AD, the term “service bulletin,” as used in this AD, means the Accomplishment Instructions of the applicable service bulletin identified in Table 1 of this AD.

Table 1.— Airbus Service Bulletins
For Airbus model— | Use Airbus service bulletin— | And, for actions done before the effective date of this AD, credit is given for prior accomplishment of revision—
(1) A330-200 and -300 series airplanes | A330-57-3075, Revision 02, dated May 28, 2004 | None.
(2) A330-200 and -300 series airplanes | A330-57-3076, Revision 01, dated June 1, 2004 | Original issue, dated March 14, 2003.
(3) A340-200 and -300 series airplanes | A340-57-4083, Revision 02, dated May 28, 2004 | None.
(4) A340-200 and -300 series airplanes | A340-57-4084, Revision 01, dated June 1, 2004 | Original issue, dated March 14, 2003.

(g) Airbus Service Bulletins A330-57-3075 and A340-57-4083 recommend reporting inspection results to the airplane manufacturer; however, this AD does not contain that requirement.

Repetitive Inspections/Corrective Actions

(h) For airplanes on which Airbus Modification 45512 was not installed in production: Within 600 flight hours after the effective date of this AD, accomplish a detailed inspection for discrepancies of the inboard and outboard actuator fitting of the aileron servo controls, in accordance with the service bulletin in paragraph (f)(1) or (f)(3) of this AD, as applicable. Accomplish any related corrective actions before further flight in accordance with the service bulletin in paragraph (f)(1) or (f)(3) of this AD, as applicable, except as required by paragraph (j) of this AD. Repeat the inspection thereafter at intervals not to exceed 600 flight hours, except as provided in paragraph (j) of this AD. Replacing all the bolts as required by paragraph (k) of this AD ends the repetitive inspections required by this paragraph.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(i) As an option to accomplishing the repetitive inspections required by paragraph (h) of this AD: Before further flight after accomplishing the initial inspection required by paragraph (h) of this AD, accomplish the replacement required by paragraph (k) of this AD. Do a one-time detailed inspection, as specified in paragraph (h), at the earlier of the times specified in paragraphs (i)(1) and (i)(2) of this AD.

(1) Within 1,800 flight hours after accomplishing the replacement.

(2) Within 18 months after accomplishing the replacement.

(j) If any discrepancy is found during any inspection required by paragraph (h) or (i) of this AD, and the applicable service bulletin in paragraph (f)(1) or (f)(3) of this AD specifies to contact Airbus for an appropriate action: Before further flight, repair in accordance with a method approved by the Manager, International Branch, ANM-116, Transport Airplane Directorate, FAA; or the Direction Générale de l'Aviation Civile (or its delegated agent). Where differences in the compliance times or corrective actions exist between the service bulletin and this AD, the AD prevails.

Replacement

(k) For airplanes on which the replacement has not been accomplished: Replace all the small-head attachment bolts of the aileron servo controls with large-head attachment bolts at the applicable time specified in paragraph (k)(1) or (k)(2) of this AD, in accordance with the service bulletin in paragraph (f)(2) or (f)(4) of this AD, as applicable. Replacing all the bolts ends the repetitive inspections required by paragraph (h) of this AD.

(1) For airplanes on which Airbus Modification 45512 was not installed in production: Do the replacement before further flight if no discrepancy is found after accomplishing three consecutive inspections, as required by paragraph (h) of this AD.

(2) For airplanes on which Airbus Modification 45512 was installed in production: Within 18 months after the effective date of this AD.

Alternative Methods of Compliance (AMOCs)

(l)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(m) French airworthiness directives F-2004-067 and F-2004-068, both dated May 26, 2004, also address the subject of this AD.

Material Incorporated by Reference

(n) You must use the applicable service bulletin identified in Table 2 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 2.—Material Incorporated by Reference
Airbus service bulletin | Revision level | Date
A330-57-3075 | Revision 02 | May 28, 2004.
A330-57-3076 | Revision 01 | June 1, 2004.
A340-57-4083 | Revision 02 | May 28, 2004.
A340-57-4084 | Revision 01 | June 1, 2004.

Issued in Renton, Washington, on March 10, 2006.
Kalene C. Yanamura,
Acting Manager, Transport Airplane Directorate, Aircraft Certification Service.

[FR Doc. 06-2851 Filed 3-24-06; 8:45 am]

BILLING CODE 4910-13-P